NATIONAL SCIENCE FOUNDATION

Notice of Intent To Seek Approval To Establish an Information Collection

AGENCY: National Science Foundation.

ACTION: Notice and request for comments.

SUMMARY: The National Science Foundation (NSF) is announcing plans to request approval of this collection. In accordance with the requirement of section 3506(c)(2)(A) of the Paperwork Reduction Act of 1995, we are providing opportunity for public comment on this action. After obtaining and considering public comment, NSF will prepare the submission requesting OMB clearance of this collection for no longer than 3 years.

DATES: Interested persons are invited to send comments regarding the burden or any other aspect of this collection of information requirements by July 10, 2015.

ADDRESSES: Written comments regarding the information collection and requests for copies of the proposed information collection request should be addressed to Suzanne Plimpton, Reports Clearance Officer, National Science Foundation, 4201 Wilson Blvd., Rm. 1265, Arlington, VA 22230, or by email to splimpto@nsf.gov.

Comments: Written comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; or (d) ways to minimize the burden of the collection of information on those who are to respond, including through the use of appropriate automated, electronic, mechanical, or other technological collection techniques or other forms of information technology.

FOR FURTHER INFORMATION CONTACT: Suzanne H. Plimpton, Reports Clearance Officer, National Science Foundation, 4201 Wilson Boulevard, Suite 1265, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION:

Title: Evaluation of the Science, Technology, Engineering, and Mathematics Talent Expansion Program (STEP)

OMB Approval Number: 3145—NEW.

Expiration Date: Not applicable.

Overview of this information collection: The National Science Foundation (NSF) is supporting an evaluation of the Science, Technology, Engineering, and Mathematics Talent Expansion Program (STEP). The primary objectives of the evaluation, stated generally, are to (a) analyze STEP implementation and outcome data from the participating institutions of higher education (IHEs), (b) compare these data to baseline data from the IHEs and matched comparison IHEs, and (c) produce a clear report of the findings to inform future programmatic activities focused on degree attainment in STEM. The evaluation will include surveys of principal investigators; extant data retrieval from Integrated Postsecondary Education Data System (IPEDS), grantee proposals and annual reports, and STEP monitoring system; and extant outcome data collection from grantee and comparison IHEs that includes aggregate data for key indicators over time (from 2000 to 2015). These key indicators include (a) number of students who are science, technology, engineering and mathematics (STEM) majors; (b) STEM retention rates; (c) persistence to a STEM degree; (d) number of STEM major transfers from 2-year associate programs into 4-year baccalaureate programs; (e) associate and baccalaureate degree attainment among STEM majors; and (f) enrollment in STEM courses. Additionally, in a subset of 10 IHEs, de-identified student level outcomes for participating students and comparison student counterparts will be collected (see Graduate 10K+ grants below).

NSF granted STEP awards to a geographically diverse set of two- and four-year IHEs, with the first round of grant awards beginning in the 2002-2003 school year and new awards granted each year through the 2013-2014 school year. Over the course of the program, STEP awarded a total of 255 grants (129 of which are currently active). STEP supported 3 types of grants:

Type 1—Type 1 grants supported the implementation of best practices in recruitment, retention, and degree attainment that would lead to an increase in the number of students obtaining associate or baccalaureate degrees in STEM or completing credits to transfer from associate to baccalaureate programs in a STEM discipline. Specific strategies implemented were based on an analysis of the needs of the undergraduate institution of higher education (IHE).

Type 2—Type 2 grants supported educational research projects that helped identify best practices and further understanding of the factors influencing STEM recruitment, retention, and degree attainment.

Graduate 10K+—In support of President Obama's 2012 initiative calling for “one million STEM graduates in ten years,” a public-private collaboration among NSF, Intel, and the GE Foundation, with a generous personal donation from Mark Gallogly, established the Graduate 10K+ special funding focus in FY2013. Graduate 10K+ projects strived to improve first and second year retention rates in engineering and computer science, especially among women and other groups of students who are underrepresented in the attainment of degrees in those disciplines.

NSF is committed to providing stakeholders with information regarding the expenditures of taxpayer funds. The evaluation of STEP will assess the overall effect of STEP funding across STEP-funded IHEs; explore the types and combinations of STEP strategies, practices, and characteristics that are most effective at achieving the desired STEP outcomes; examine differences in outcomes across targeted disciplines; assess the effects of Graduate 10K+ funding on first- and second-year retention rates in engineering and computer science; and investigate the broad influence of STEP Type 2 projects to the base of quality, practical research in STEM education and in preparing new researchers to enter the field.

If NSF cannot collect information from STEP participants and comparison IHEs, NSF will have no other means to consistently assess the program outcomes and identify strategies, practices, and characteristics that are most effective at achieving those desired outcomes.

Background

The evaluation will involve data from web surveys and extant sources. OMB approval is being sought for the new data that will be collected for the study. Primary data sources will include web surveys of STEP Principal Investigators (PIs) and aggregate level outcome data provided by PIs at grantee IHEs and Institutional Research staff at comparison IHEs.

Respondents: Individuals (Principal Investigators, Institutional Research staff).

Number of Type 1 PI Survey Respondents: 325.

Number of Type 2 PI Survey Respondents: 17.

Number of Data Request Respondents: 1,031.

Average Time per Response (Type 1 PI Survey): 15 minutes.

Average Time per Response (Type 2 PI Survey): 20 minutes.

Average Time per Data Request (Principal Investigators. Institutional Research Staff): 120 minutes.

Burden on the Public: 2,149 total hours.

Dated: May 5, 2015.
Suzanne H. Plimpton,
Reports Clearance Officer, National Science Foundation.

[FR Doc. 2015-11279 Filed 5-8-15; 8:45 am]

BILLING CODE 7555-01-P